DEPARTMENT OF ENERGY

Federal Energy Regulatory Commission

Combined Notice of Filings

Take notice that the Commission has received the following Natural Gas Pipeline Rate and Refund Report filings:

Filings Instituting Proceedings

Docket Number: PR18-28-000.

Applicants: Columbia Gas of Ohio, Inc.

Description: Tariff filing per 284.123(b),(e): COH Rates effective1-31-2018.

Filed Date: 2/2/18.

Accession Number: 201802025058.

Comments/Protests Due: 5 p.m. ET2/23/18.

Docket Numbers: RP18-298-001.

Applicants: Columbia Gas Transmission, LLC.

Description: Compliance filing Adjusted CCRM 2018—Compliance to be effective 2/1/2018.

Filed Date: 2/6/18.

Accession Number: 20180206-5046.

Comments Due: 5 p.m. ET 2/20/18.

Docket Numbers: RP18-428-000.

Applicants: Enstor Energy Services, LLC, Castleton Commodities International LLC.

Description: Joint Petition of Enstor Energy Services, LLC, et al. for Temporary Waiver of Capacity Release Regulations and Policies and Request for Expedited Treatment.

Filed Date: 2/6/18.

Accession Number: 20180206-5129.

Comments Due: 5 p.m. ET 2/13/18.

Docket Numbers: RP18-429-000.

Applicants: Rover Pipeline LLC.

Description: § 4(d) Rate Filing: Non-Conforming Agreements—2 in compliance with CP15-93 Order to be effective 3/1/2018.

Filed Date: 2/7/18.

Accession Number: 20180207-5006.

Comments Due: 5 p.m. ET 2/20/18.

Docket Numbers: RP18-430-000.

Applicants: Rover Pipeline LLC.

Description: § 4(d) Rate Filing: Non-Conforming Agreement List—2 to be effective 3/1/2018.

Filed Date: 2/7/18.

Accession Number: 20180207-5005.

Comments Due: 5 p.m. ET 2/20/18.

Docket Numbers: RP18-431-000.

Applicants: Bear Creek Storage Company, L.L.C.

Description: Compliance filing Annual Report on Operational Transactions 2018.

Filed Date: 2/7/18.

Accession Number: 20180207-5007.

Comments Due: 5 p.m. ET 2/20/18.

Docket Numbers: RP18-432-000.

Applicants: Natural Gas Pipeline Company of America.

Description: § 4(d) Rate Filing: Amended Negotiated Rate Agreement—Tenaska Mktg Ventures to be effective2/7/2018.

Filed Date: 2/7/18.

Accession Number: 20180207-5008.

Comments Due: 5 p.m. ET 2/20/18.

Docket Numbers: RP18-433-000.

Applicants: Transcontinental Gas Pipe Line Company.

Description: § 4(d) Rate Filing: List of Non-Conforming Service Agreements (VSS II and Clean-Up) to be effective8/1/2017.

Filed Date: 2/7/18.

Accession Number: 20180207-5146.

Comments Due: 5 p.m. ET 2/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2018.
Nathaniel J. Davis, Sr.,
Deputy Secretary.

[FR Doc. 2018-03021 Filed 2-13-18; 8:45 am]

BILLING CODE 6717-01-P